DEPARTMENT OF TRANSPORTATION

Federal Motor Carrier Safety Administration

[Docket No. FMCSA-2003-14652]

Commercial Driver's License Standards; Isuzu Motors America, Inc. Exemption Application; Correction

AGENCY: Federal Motor Carrier Safety Administration (FMCSA), DOT.

ACTION: Notice; correction.

SUMMARY: FMCSA published a document in the Federal Register of October 16, 2003, 68 FR 59677, which contained two incorrect dates. This notice is to notify the public of these errors and make corrections to the October 16, 2003 notice. The corrections change the exemption effective date to October 16, 2003, and the exemption expiration date to October 17, 2005. The exemption requirements remain unchanged.

FOR FURTHER INFORMATION CONTACT: Ms. Teresa Doggett, Transportation Specialist, Office of Bus and Truck Standards and Operations, (202) 366-2990.

SUPPLEMENTARY INFORMATION:

Background

The effective date for the exemption was announced in the October 16, 2003 notice as starting November 17, 2003. This was an error. The effective date should have been October 16, 2003. Due to an oversight by the Office of the Federal Register, the expiration date for the exemption was announced as expiring October 17, 2003. The expiration date should have been October 17, 2005.

Corrections

In the Federal Register of October 16, 2003, in FR Doc. 03-26119, on page 59677, in the first column of the page, correct the DATES to read: DATES: The exemption is effective October 16, 2003. The exemption expires October 17, 2005.

Issued on: October 16, 2003.
Pamela M. Pelcovits,
Director, Office of Policy, Plans, and Regulations.

[FR Doc. 03-26686 Filed 10-21-03; 8:45 am]

BILLING CODE 4910-EX-P